COMMITTEE FOR PURCHASE FROM PEOPLE WHO ARE BLIND OR SEVERELY DISABLED

Procurement List; Additions and Deletions

AGENCY: Committee for Purchase from People Who Are Blind or Severely Disabled.

ACTION: Additions to and deletions from the procurement list.

SUMMARY: This action adds services to the Procurement List that will be provided by nonprofit agencies employing persons who are blind or have other severe disabilities, and deletes products and services from the Procurement List previously furnished by such agencies.

DATES: Effective 6/12/2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 4/1/2016 (81 FR 18839-18840), the Committee for Purchase from People Who Are Blind or Severely Disabled published notice of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities.

The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 8501-8506) in connection with the services proposed for addition to the Procurement List.

End of Certification

Accordingly, the following services are added to the Procurement List:

Services

Service Type: Janitorial Service

Service Mandatory For: Library of Congress, Fort Meade Collection Storage Modules, Fort Meade, MD

Mandatory Source(s) of Supply: Goodwill Industries of the Chesapeake, Inc., Baltimore, MD

Contracting Activity: Library of Congress, Fedlink Contracts, Washington, DC

Service Type: Custodial Service

Service Mandatory For: National Park Service NE Region, Tri-Site Maintenance Facility, Olmsted, Kennedy & Longfellow/Washington National Historic Sites, Boston, MA

Mandatory Source(s) of Supply: Community Workshops, Inc., Boston, MA

Contracting Activity: Dept of the Interior, National Park Service, NER NE MABO, Boston, MA

Deletions

On 4/8/2016 (81 FR 20624-20625), the Committee for Purchase from People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities.

The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

MR 10654—Bottle, Single Wall

MR 10656—Saver, Sandwich

MR 10666—Thermos, 25 oz., Licensed

MR 10667—Tumbler, Drinking, 16 oz., Licensed

MR 10669—Kit, Party, New Year's

Mandatory Source(s) of Supply: Winston-Salem Industries for the Blind, Inc., Winston-Salem, NC

Contracting Activity: Defense Commissary Agency

NSN(s)—Product Name(s): 6545-01-533-7042—Quik Clot Module

Mandatory Source(s) of Supply: Chautauqua County Chapter, NYSARC, Jamestown, NY

Contracting Activity: Defense Logistics Agency Troop Support

Services

Service Type: Janitorial/Custodial Service

Mandatory for: Fairchild Air Force Base: Air Recovery and Rescue Squadron (Bldg. 2036), SAC/MET Office (Building 2001B), Fairchild AFB, WA

Mandatory Source(s) of Supply: Skils'kin, Spokane, WA

Contracting Activity: Dept of the Air Force, FA7014 AFDW PK, Andrews AFB, MD

Service Type: Operation of Postal Service Center Service

Mandatory for: Fairchild Air Force Base, Fairchild AFB, WA

Mandatory Source(s) of Supply: Skils'kin, Spokane, WA

Contracting Activity: Dept of the Air Force, FA4620 92 CONS LGC, Fairchild AFB, WA

Barry S. Lineback,
Director, Business Operations.

[FR Doc. 2016-11331 Filed 5-12-16; 8:45 am]

BILLING CODE 6353-01-P